FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011785.

Title: COSCON/KL/YMUK Asia/U.S. East and Gulf Coast/Mediterranean Vessel Sharing Agreement.

Parties: COSCO Container Lines Company, Ltd., Yangming (U.K.), Ltd., Kawasaki Kisen Kaisha, Ltd.

Synopsis: The proposed agreement would authorize the parties to charter container space to each other and rationalize port calls and sailings in the trade to and from ports in Japan, China, the U.S. East and Gulf Coasts, and Mediterranean ports in the Gibraltar/Port Said range. This agreement combines and replaces two existing vessel sharing agreements among the parties into a single east-west pendulum service.

Agreement No. 011786.

Title: Zim/Great Western Agreement.

Parties: Zim Israel Navigation Co. Ltd, Great Western Agreement.

Synopsis: The proposed agreement authorizes the parties to cross-charter and exchange space on their vessels that operate in the trade between Long Beach, California, on the one hand, and Hong Kong, South Korea, and the People's Republic of China, on the other hand. It also authorizes Zim to time charter one vessel to Great Western. The parties request expedited review.

Agreement No.: 011787.

Title: NSCSA/NYK Middle East Space Charter Agreement.

Parties: National Shipping Company of Saudi Arabia, Nippon Yusen Kaisha.

Synopsis: The proposed agreement would permit the parties to charter space to one another on their respective ro-ro vessels on an “as needed, as available basis” in the trade between U.S. Atlantic and Gulf Coasts and ports in the Arabian Gulf, Red Sea, Gulf of Aden, and Gulf of Oman.

Dated: January 11, 2002.
By Order of the Federal Maritime Commission.
Bryant L. VanBrakle,
Secretary.

[FR Doc. 02-1168 Filed 1-16-02; 8:45 am]

BILLING CODE 6730-01-P